DEPARTMENT OF THE TREASURY

Submission for OMB Review; Comment Request

August 3, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000,1750 Pennsylvania Avenue, NW., Washington, DC 20220.

DATES: Written comments should be received on or before September 9, 2009 to be assured of consideration.

Alcohol and Tobacco Tax and Trade Bureau (TTB)

OMB Number: 1513-XXXX.

Type of Review: New Information Collection Activity.

Title: Certificate of Taxpaid Alcohol.

Description: TTB F 5100.4 consolidates taxes paid on distilled spirits used in the manufacture of nonbeverage products for exportation. The form is completed by TTB industry members to receive back $1 for each proof gallon of nonbeverage products exported. The form is certified by TTB as proof that the taxes have been paid and not previously received back. The completed form is sent to the Director of Customs and Border Patrol who processes it and returns the $1 per proof gallon.

Respondents: Businesses or other for-profits.

Estimated Total Burden Hours: 1,000 hours.

Clearance Officer: Frank Foote (202) 927-9347, Alcohol and Tobacco Tax and Trade Bureau, Room 200 East, 1310 G Street, NW., Washington, DC 20005.

OMB Reviewer: Shagufta Ahmed (202) 395-7873, Office of Management and Budget, Room 10235, New Executive Office Building, Washington, DC 20503.

Robert Dahl,
Treasury PRA Clearance Officer.

[FR Doc. E9-19074 Filed 8-7-09; 8:45 am]

BILLING CODE 4810-31-P